NATIONAL AERONAUTICS AND SPACE ADMINISTRATION

[Notice: (16-072)]

NASA Advisory Council; Science Committee; Meeting

AGENCY: National Aeronautics and Space Administration.

ACTION: Notice of meeting.

SUMMARY: In accordance with the Federal Advisory Committee Act, Public Law 92-463, as amended, the National Aeronautics and Space Administration (NASA) announces a meeting of the Science Committee of the NASA Advisory Council (NAC). This Committee reports to the NAC. The meeting will be held for the purpose of soliciting, from the scientific community and other persons, scientific and technical information relevant to program planning.

DATES: Wednesday, October 26, 2016, 1:00 p.m. to 5:45 p.m.; and Thursday, October 27, 2016, 1:00 p.m. to 5:45 p.m., Eastern Time.

FOR FURTHER INFORMATION CONTACT: KarShelia Henderson, Science Mission Directorate, NASA Headquarters, Washington, DC 20546, (202) 358-2355, fax (202) 358-2779, or khenderson@nasa.gov.

SUPPLEMENTARY INFORMATION: The meeting will be available telephonically and by WebEx. You must use a touch-tone phone to participate in this meeting. Any interested person may dial the USA toll free conference call number 1-888-790-1716 or toll number 1-212-287-1654, passcode 5882231, for both days. The WebEx link is https://nasa.webex.com/; the meeting number is 992 986 313 and the password is SC@Oct2016 (case sensitive), for both days.

The agenda for the meeting includes the following topics:

—Science Mission Directorate Division Updates

—Science Committee Subcommittee Reports

—Education Update

It is imperative that this meeting be held on these dates to accommodate the scheduling priorities of the key participants.

Patricia D. Rausch,
Advisory Committee Management Officer, National Aeronautics and Space Administration.

[FR Doc. 2016-23872 Filed 10-3-16; 8:45 am]

BILLING CODE 7510-13-P